DEPARTMENT OF HOUSING AND URBAN DEVELOPMENT

[Docket No. FR-4560-FA-21]

Announcement of Funding Award—FY 2000 Lead Hazard Control Research Program

AGENCY: Office of the Secretary—Office of Healthy Homes and Lead Hazard Control, HUD.

ACTION: Announcement of funding award.

SUMMARY: In accordance with section 102(a)(4)(C) of the Department of Housing and Urban Development Reform Act of 1989, this announcement notifies the public of funding decisions made by the Department as a result of the Lead Hazard Control Research Super Notice of Funding Availability (SuperNOFA). This announcement contains the names and addresses of the awardees and the amount of the awards.

FOR FURTHER INFORMATION CONTACT: Eugene A. Pinzer, Department of Housing and Urban Development, 451, Seventh Street, SW., Washington, DC 20410, telephone (202) 755-1785, ext. 120. Hearing-or speech-impaired individuals may access this number by calling the Federal Information Relay Service TTY at 1-800-877-8339.

SUPPLEMENTARY INFORMATION: The Lead Hazard Control Research Program was issued pursuant to Sections 1051 and 1052 of the Residential Lead-Based Paint Hazard Reduction Act of 1992.

The Lead Hazard Research Programs provides research funds to improve methods for detecting and controlling residential lead-based paint hazards. On February 24, 2000 (65 FR 9559), HUD published a SuperNOFA announcing the availability of approximately $1.5 million in Fiscal Year 2000 funds for the Lead Hazard Control Research Program. The Department reviewed, evaluated and scored the applications received based on the criteria in the SuperNOFA. As a result, HUD has funded three grantees for the Lead Hazard Control Research Program.

The Catalog of Federal Domestic Assistance number for this program is 14.900.

In accordance with section 102(a)(4)(C) of the Department of Housing and Urban Development Reform Act of 1989 (103 Stat. 1987, 42 U.S.C. 3545), the Department is publishing the names, addresses, and amounts of the awards as follows:

Awardee | Address | Amount of grant
Kennedy Kreiger Research Institute | 707 North Broadway, Baltimore, MD 21205 | $491,955.00
New Jersey Department of Health and Senior Services | Division of Epidemiology, Environmental and Occupational Health, P.O. Box 360—Mercer County, Trenton, NJ 08625 | 250,000.00
Wisconsin Department of Health and Family Services | Division of Public Health, Bureau of Environmental Health, 1 West Wilson Street—P.O. Box 2659, Madison, WI 53701-2659 | 37,858.00

Dated: June 18, 2001.
David E. Jacobs,
Director, Office of Healthy Homes and Lead Hazard Control.

[FR Doc. 01-15922 Filed 6-25-01; 8:45 am]

BILLING CODE 4210-70-P